DEPARTMENT OF THE INTERIOR

National Park Service

Concession Contracts and Permits: Expiring Contracts; Extension

AGENCY: National Park Service, Interior.

ACTION: Public notice.

SUMMARY: Pursuant to the terms of existing concession contracts, public notice is hereby given that the National Park Service intends to request a continuation of visitor services until December 31, 2003, or until such time as a new contract is awarded, whichever occurs sooner.

SUPPLEMENTARY INFORMATION: The contracts listed below have been extended to the maximum allowable under 36 CFR 51.23. Under the provisions of current concession contracts and pending the development and public solicitation of a prospectus for a new concession contract, the National Park Service authorizes continuation of visitor services for a period not-to-exceed December 31, 2002, or until such time as a new contract is awarded, whichever occurs sooner, under the terms and conditions of current contracts as amended. The continuation of operations does not affect any rights with respect to selection for award of a new concession contract.

Concessioner ID No. | Concessioner name | Park
DEVA001 | Amfac Hotels & Resorts | Death Valley National Park.
DEVA002 | Amfac Hotels & Resorts | Death Valley National Park.
GOGA001 | Blue & Gold Fleet, LP | Golden Gate NRA.
GOGA008 | Louis' Restaurant | Golden Gate NRA.
LAME002 | Lakeshore Trailer Village | Lake Mead NRA.
LAME003 | Seven Resorts, Inc. (Lake Mead Resort) | Lake Mead NRA.
LAME005 | Forever Resorts, Inc. (Callvile Bay) | Lake Mead NRA.
LAME006 | Las Vegas Boat Harbor | Lake Mead NRA.
LAME008 | Overton Beach Resort | Lake Mead NRA.
LAME010 | Seven Resorts, Inc. (Echo Bay Resort) | Lake Mead NRA.
MUWO001 | ARAMARK Leisure | Muir Woods National Monument.
OLYM001 | ARAMARK Corp. | Olympic National Park.
OLYM005 | Crescent West, Inc. | Olympic National Park.
OLYM008 | Sol Duc Hot Springs | Olympic National Park.

EFFECTIVE DATE: January 2, 2003.

FOR FURTHER INFORMATION CONTRACT: Cynthia Orlando, Concession Program Manager, National Park Service, 1849 C Street, NW., (2410), Washington, DC, 20240, Telephone 202/513-7144.

Dated: November 26, 2002.
Richard M. Cripe,
Associate Director, Administration, Workforce Development and Business Practices.

[FR Doc. 02-32166 Filed 12-20-02; 8:45 am]

BILLING CODE 4310-70-M